COMMITTEE FOR PURCHASE FROM PEOPLE WHO ARE BLIND OR SEVERELY DISABLED

Procurement List; Additions and Deletions

AGENCY: Committee for Purchase From People Who Are Blind or Severely Disabled.

ACTION: Additions to and deletions from Procurement List.

SUMMARY: This action adds to the Procurement List products to be furnished by nonprofit agencies employing persons who are blind or have other severe disabilities, and deletes from the Procurement List products previously furnished by such agencies.

DATES: Effective Date: August 6, 2006.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, Telephone: (703) 603-7740, Fax: (703) 603-0655, or e-mail SKennerly@jwod.gov.

SUPPLEMENTARY INFORMATION:

Additions

On May 5, 2006, the Committee for Purchase From People Who Are Blind or Severely Disabled published notice (71 FR 26451) of proposed additions to the Procurement List.

After consideration of the material presented to it concerning capability of qualified nonprofit agencies to provide the products and impact of the additions on the current or most recent contractors, the Committee has determined that the products listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 46-48c) in connection with the products proposed for addition to the Procurement List.

End of Certification

Accordingly, the following product is added to the Procurement List:

Products

Product/NSNs: Bandoleer Ammunition Pouch;

8465-01-524-7309-6 Mag Assembly, Universal Camouflage;

8465-01-465-2144-6 Mag Assembly, Woodland Camouflage;

8465-01-491-7517-6 Mag Assembly, Desert Camouflage.

NPA: Mississippi Industries for the Blind, Jackson, MS.

NPA: The Arkansas Lighthouse for the Blind, Little Rock, AR.

Contracting Activity: Defense Supply Center Philadelphia, Philadelphia, PA.

Deletions

On May 12, 2006, the Committee for Purchase From People Who Are Blind or Severely Disabled published notice (71 FR 27676) of proposed deletions to the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Product/NSN: Binder, Loose-leaf;

7510-00-285-1765.

NPA: ForSight Vision, York, PA.

Contracting Activity: Office Supplies & Paper Products Acquisition Center, New York, NY.

Product/NSN: Holder, Toilet Paper;

4510-00-364-3035.

NPA: Jewish Vocational Services, Inc., Dunwoody, GA.

Contracting Activity: Defense Supply Center Philadelphia, Philadelphia, PA.

Sheryl D. Kennerly,
Director, Information Management.

[FR Doc. E6-10657 Filed 7-6-06; 8:45 am]

BILLING CODE 6353-01-P